DEPARTMENT OF DEFENSE

Office of the Secretary

Veterans' Advisory Board on Dose Reconstruction; Meeting

AGENCY: Defense Threat Reduction Agency, DoD.

ACTION: Advisory board meeting notice.

SUMMARY: Under the provisions of the Federal Advisory Committee Act of 1972 (5 U.S.C., Appendix, as amended) and the Sunshine in the Government Act of 1976 (5 U.S.C. 552b, as amended) the Defense Threat Reduction Agency (DTRA) and the Department of Veterans Affairs (VA) announce the following advisory board meeting of the Veterans' Advisory Board on Dose Reconstruction (VBDR). The public is invited to attend.

DATES: The meeting will be held on Thursday, March 4, 2010, from 8:30 a.m. to 11:45 a.m. and from 1:15 p.m. to 5 p.m. A public comment session is scheduled from 10:15 a.m. to 10:45 a.m.

ADDRESSES: The meeting will be held at the Hilton Arlington Hotel, 950 North Stafford Street, Arlington, VA 22203.

FOR FURTHER INFORMATION CONTACT: The Veterans' Advisory Board on Dose Reconstruction Toll Free at 1-866-657-VBDR (8237).

Additional information may be found at http://vbdr.org.

SUPPLEMENTARY INFORMATION:

Purpose of Meeting

To obtain, review and evaluate information related to the Board's mission to provide guidance and oversight of the dose reconstruction and claims compensation programs for veterans of U.S.-sponsored atmospheric nuclear weapons tests from 1945-1962; veterans of the 1945-1946 occupation of Hiroshima and Nagasaki, Japan; and veterans who were prisoners of war in those regions at the conclusion of World War II. In addition, the advisory board will assist the VA and DTRA in communicating with the veterans.

Meeting Agenda

The meeting will open with an introduction of the Board. After introductions, the following briefings will be presented: “Veterans Health Administration Procedures and the Ionizing Radiation Registry” by Victoria Cassano, M.D.; “Discussion on: Projecting Future Operations of VBDR at the Strategic Level (September 15, 2009 Draft)” by Dr. John Lathrop; “Update on the NTPR Dose Reconstruction Program” by Dr. Paul Blake; and “Update on the VA Radiation Claims Compensation Program for Veterans” by Mr. Brad Flohr. The morning session includes one half-hour open public comment session. In the afternoon, the four subcommittees established during the inaugural VBDR session will report on their activities since June 2009. The subcommittees are the “Subcommittee on DTRA Dose Reconstruction Procedures,” the “Subcommittee on VA Claims Adjudication Procedures,” the “Subcommittee on Quality Management and VA Process Integration with DTRA Nuclear Test Personnel Review Program,” and the “Subcommittee on Communication and Outreach.” The remainder of the meeting will be devoted to a discussion of the future of the VBDR.

Meeting Accessibility

Pursuant to 5 U.S.C. 552b, as amended, and 41 CFR 102-3.140 through 102-3.165, and the availability of space, this meeting is open to the public. Seating is limited by the size of the meeting room. All persons must sign in legibly at the registration desk.

Written Statements

Pursuant to 41 CFR 102-3.105(j) and 102-3.140(c), interested persons may submit a written statement for consideration by the Veterans' Advisory Board on Dose Reconstruction. Written statements should be no longer than two type written pages and must address: The issue, discussion, and recommended course of action. Supporting documentation may also be included as needed to establish the appropriate historical context and to provide any necessary background information.

Individuals submitting a written statement may submit their statement to the Board at 801 N. Quincy Street, Suite 600, Arlington, VA 22203, at any time. However, if a written statement is not received at least 10 calendar days prior to the meeting, which is the subject of this notice, then it may not be provided to or considered by the Veterans' Advisory Board on Dose Reconstruction until its next open meeting.

The Chairperson will review all timely submissions with the Designated Federal Officer, and ensure they are provided to members of the Veterans' Advisory Board on Dose Reconstruction before the meeting that is the subject of this notice. After reviewing the written comments, the Chairperson and the Designated Federal Officer may choose to invite the submitter of the comments to orally present their issue during an open portion of this meeting or at a future meeting.

Public Comments

The March 4, 2010, meeting is open to the public. One, approximately half-hour session will be reserved for public comments on issues related to the tasks of the Veterans' Advisory Board on Dose Reconstruction. Speaking time will be assigned on a first-come, first-served basis. The amount of time per speaker will be determined by the number of requests received, but is nominally five minutes each. All persons who wish to speak at the meeting must sign in legibly at the registration desk. Speakers who wish to expand on their oral statements are invited to submit a written statement to the Veterans' Advisory Board on Dose Reconstruction at 801 N. Quincy Street, Suite 600, Arlington, VA 22203.

Dated: February 1, 2010.
Mitchell S. Bryman,
Alternate OSD Federal Register Liaison Officer, Department of Defense.

[FR Doc. 2010-2368 Filed 2-3-10; 8:45 am]

BILLING CODE 5001-06-P